DEPARTMENT OF DEFENSE

Office of the Secretary

Notice of Waiver of the Referral Requirement for TRICARE Prime Enrollees, Not Including Active Duty Service Members (ADSMs), So They May Receive COVID-19 Vaccines From Any TRICARE-Authorized Non-Network Provider Without Incurring Point-of-Service Charges Where Applicable

AGENCY: Office of the Secretary, Department of Defense (DoD).

ACTION: Notice of waiver.

SUMMARY: This notice is to advise TRICARE Prime enrollees, not including ADSMs, of a waiver to the referral requirement so they may receive COVID-19 vaccines, a clinical preventive service, from any TRICARE authorized non-network provider without incurring POS charges where applicable.

DATES: This waiver is effective on December 13, 2020.

ADDRESSES: Defense Health Agency (DHA), 16401 East Centretech Parkway, Aurora, CO 80011-9066.

FOR FURTHER INFORMATION CONTACT: Valerie Palmer, Defense Health Agency, 303-676-3557, valerie.a.palmer3.civ@mail.mil.

SUPPLEMENTARY INFORMATION: In December 2019, an outbreak of respiratory disease caused by a novel coronavirus was detected in Wuhan City, Hubei Province, China. The virus has been named SARS-CoV-2 and the disease it causes has been named COVID-19. This virus has spread rapidly throughout the United States (U.S.) and around the world.

On January 31, 2020, the Secretary of the Department of Health and Human Services, Alex Azar, declared a public health emergency pursuant to Section 319 of the Public Health Service Act for the entire U.S. to aid in the Nation's health care community response to COVID-19, retroactive to January 27, 2020. On March 13, 2020, President Donald Trump declared that the COVID-19 outbreak in the U.S. constituted a national emergency, beginning March 1, 2020.

Thus far, two vaccines have been approved by the Food and Drug Administration (FDA) for the prevention of COVID-19 in the U.S. On December 11, 2020, the FDA issued an Emergency Use Authorization (EUA) for the Pfizer-BioNTech COVID-19 vaccine (Pfizer, Inc.; Philadelphia, Pennsylvania). Vaccination with the Pfizer-BioNTech COVID-19 vaccine consists of two doses administered intramuscularly, three weeks apart. On December 12, 2020, the Advisory Committee on Immunization Practices (ACIP) issued an interim recommendation for use of the Pfizer-BioNTech COVID-19 vaccine in persons aged 16 years and older for the prevention of COVID-19. The recommendation was published in an early release of the Morbidity and Mortality Weekly Report (MMWR) on December 13, 2020; thus, this vaccine may now be covered by TRICARE.

On December 18, 2020, the FDA issued an EUA for the Moderna COVID-19 (mRNA-1273) vaccine (ModernaTX, Inc; Cambridge, Massachusetts). Vaccination with the Moderna COVID-19 vaccine consists of two doses administered intramuscularly, four weeks apart. On December 19, 2020, the ACIP issued an interim recommendation for use of the Moderna COVID-19 vaccine in persons aged 18 years and older for the prevention of COVID-19. The recommendation was published in an early release of the MMWR on December 20, 2020; thus, this vaccine may also be covered by TRICARE.

Except under very special circumstances, a beneficiary enrolled in TRICARE Prime is required to obtain a referral for care through a designated primary care manager (or other authorized care coordinator) prior to obtaining care under the TRICARE program, otherwise POS charges apply. The DHA believes the widespread need for COVID-19 vaccines and the fact that supply of these vaccines may be limited is a special circumstance necessitating the waiver of the referral requirement for TRICARE Prime enrollees so they may receive a COVID-19 vaccine, a clinical preventive service, from any TRICARE authorized non-network provider without incurring POS charges where applicable. This waiver will apply for the period of the U.S. President's declaration of the COVID-19 national emergency.

Dated: January 25, 2021.
Aaron T. Siegel,
Alternate OSD Federal Register Liaison Officer, Department of Defense.

[FR Doc. 2021-03667 Filed 2-22-21; 8:45 am]

BILLING CODE 5001-06-P